NUCLEAR REGULATORY COMMISSION

Sunshine Federal Register Notice

AGENCY: Nuclear Regulatory Commission.

Date: Weeks of November 28, December 5, 12, 19, 26, 2005, January 2, 2006.

Place: Commissioners' Conference Room, 11555 Rockville Pike, Rockville, Maryland.

Status: Public and Closed.

Matters to be considered:

Week of November 28, 2005

Tuesday, November 29, 2005

9:30 a.m. Discussion of Management Issues (Closed—Ex. 2).

Wednesday, November 30, 2005

9:25 a.m. Affirmation Session (Public Meeting) (Tentative). a. Exelon Generation Company, LLC (Early Site Permit for Clinton Site) (Tentative).

9:30 a.m. Briefing on EEO Program (Public Meeting). (Contact: Corenthis Kelley, 301-415-7380).

This meeting will be webcast live at the Web address— http://www.nrc.gov

Week of December 5, 2005—Tentative

Thursday, December 8, 2005

1 p.m. Meeting with the Advisory Committee on Reactor Safeguards (ACRS). (Contact: John Larkins, 301-415-7360).

This meeting will be webcast live at the Web address— http://www.nrc.gov

Week of December 12, 2005—Tentative

Monday, December 12, 2005

9 a.m. Discussion of Security Issues (Closed—Ex. 1).

Wednesday, December 14, 2005

1:30 p.m. Discussion of Security Issues (Closed—Ex. 1).

Thursday, December 15, 2005

1:30 p.m. Briefing on Threat Environment Assessment (Closed—Ex. 1).

Week of December 19, 2005—Tentative

There are no meetings scheduled for the Week of December 19, 2005.

Week of December 26, 2005—Tentative

There are no meetings scheduled for the Week of December 26, 2005.

Week of January 2, 2006—Tentative

There are no meetings scheduled for the Week of January 2, 2006.

*The schedule for commission meetings is subject to change on short notice. To verify the status of meetings call (recording)—(301) 415-1292. Contact person for more information: Michelle Schroll, (301) 415-1662.

* * * * *

The NRC Commission Meeting Schedule can be found on the Internet at: http://www.nrc.gov/what-we-do/policy-making/schedule.html

* * * * *

The NRC provides reasonable accommodation to individuals with disabilities where appropriate. If you need a reasonable accommodation to participate in these public meetings, or need this meeting notice or the transcript or other information from the public meetings in another format (e.g., braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: November 23, 2005.
R. Michelle Schroll,
Office of the Secretary.

[FR Doc. 05-23518 Filed 11-28-05; 10:15 am]

BILLING CODE 7590-01-M